DEPARTMENT OF THE INTERIOR

National Park Service

[NPS-WASO-CONC-19591; PPWOBSADC0, PPMVSCS1Y.Y00000]

Notice of Extension of Concession Contracts

AGENCY: National Park Service, Interior.

ACTION: Public Notice.

SUMMARY: The National Park Service hereby gives public notice that it proposes to extend the following expiring concession contracts for a period of up to one (1) year, or until the effective date of a new contract, whichever occurs sooner.

DATES: Effective January 1, 2016.

FOR FURTHER INFORMATION CONTACT: Brian Borda, Chief, Commercial Services Program, National Park Service, 1201 Eye Street NW., 11th Floor, Washington, DC 20005, Telephone: 202-513-7156.

SUPPLEMENTARY INFORMATION: All of the listed concession authorizations will expire by their terms on or before December 31, 2015. The National Park Service has determined the proposed short-term extensions are necessary to avoid interruption of visitor services and has taken all reasonable and appropriate steps to consider alternatives to avoid such interruption. The publication of this notice merely reflects the intent of the National Park Service but does not bind the National Park Service to extend any of the contracts listed below.

—
CONCID | Concessioner | Park unit
NACE005-08 | Golf Course Specialist, Inc. | National Mall and Memorial Parks.
ACAD010-04 | National Park Tours and Transport, Inc | Acadia National Park.
ACAD011-04 | Oli's Trolley | Acadia National Park.
COLO007-05 | The Association for the Preservations of Virginia Antiquities | Colonial National Historical Park.
FIIS007-05 | Fire Island Concessions, LLC | Fire Island National Seashore.
GATE017-03 | JEN Marine Development LLC | Gateway National Recreation Area.
GATE020-04 | Global Golf Services, Inc. | Gateway National Recreation Area.
NERO001-05 | Eastern National | Northeast Region, National Park Service.
SAHI001-05 | The Theodore Roosevelt Association | Sagamore Hill National Historic Site.
BUIS006-06 | TERORO II, Inc. | Buck Island Reef National Monument.
BUIS008-06 | Llewellyn's Charter, Inc. | Buck Island Reef National Monument.
BUIS014-06 | Michael Klein | Buck Island Reef National Monument.
BUIS019-06 | Dragon Fly | Buck Island Reef National Monument.
GRSM007-08 | Elizabeth Burns Cook | Great Smoky Mountains National Park.
VIIS008-05 | CBI Acquisitions, LLC | Virgin Islands National Park.
APIS001-06 | David Strzok | Apostle Islands National Lakeshore.
BUFF001-06 | Buffalo Point Concession | Buffalo National River.
HOSP001-04 | Hot Springs Advertising and Promotion Commission | Hot Springs National Park.
MORU001-05 | Xanterra Parks & Resorts, Inc. | Mount Rushmore National Memorial.
OZAR002-05 | George Eugene and Eleanor Maggard | Ozark National Scenic Riverways.
OZAR005-05 | George Eugene and Eleanor Maggard | Ozark National Scenic Riverways.
OZAR007-05 | Joe and Darlene Devall | Ozark National Scenic Riverways.
OZAR008-05 | George Eugene and Eleanor Maggard | Ozark National Scenic Riverways.
OZAR010-05 | River Run Canoe & Tube Rental | Ozark National Scenic Riverways.
OZAR013-05 | Yellow Paddle Adventures, LLC | Ozark National Scenic Riverways.
OZAR014-05 | C & R Boating Company, Inc. | Ozark National Scenic Riverways.
OZAR020-05 | Darrel Blackwell | Ozark National Scenic Riverways.
OZAR023-05 | The Landing Canoe Rental | Ozark National Scenic Riverways.
OZAR024-05 | Tom and Della Bedell | Ozark National Scenic Riverways.
OZAR025-05 | The Landing and Rosecliff Lodge | Ozark National Scenic Riverways.
OZAR028-05 | Jack and Lois Peters | Ozark National Scenic Riverways.
OZAR036-05 | George Eugene and Eleanor Maggard | Ozark National Scenic Riverways.
OZAR049-05 | The Landing and Rosecliff Lodge | Ozark National Scenic Riverways.
OZAR050-05 | John Kladiva | Ozark National Scenic Riverways.
CANY001-05 | Adventure Bound, Inc. | Canyonlands National Park.
CANY002-05 | Sheri Griffith Holding, LLC | Canyonlands National Park.
CANY003-05 | NAVTEC Expeditions, Inc. | Canyonlands National Park.
CANY004-05 | Outward Bound Wilderness | Canyonlands National Park.
CANY005-05 | Colorado River & Trail Expeditions, Inc | Canyonlands National Park.
CANY006-05 | O.A.R.S. Canyonlands, Inc. | Canyonlands National Park.
CANY007-05 | Holiday River Expeditions, Inc. | Canyonlands National Park.
CANY009-05 | Moki Mac River Expeditions, Inc. | Canyonlands National Park.
CANY010-05 | O.A.R.S. Canyonlands, Inc. | Canyonlands National Park.
CANY011-05 | Western River Expeditions, Inc. | Canyonlands National Park.
CANY012-05 | Niskanen & Jones, Inc. | Canyonlands National Park.
CANY014-05 | Niskanen & Jones, Inc. | Canyonlands National Park.
CANY015-05 | ARAMARK Sports and Entertainment, LLC | Canyonlands National Park.
CANY016-05 | Tour West, Inc. | Canyonlands National Park.
CANY017-05 | Western River Expeditions, Inc. | Canyonlands National Park.
CANY018-05 | American Wilderness Expeditions, Inc | Canyonlands National Park.
CANY019-05 | Niskanen & Jones, Inc. | Canyonlands National Park.
CANY020-05 | Raft Moab, Inc. | Canyonlands National Park.
CURE001-06 | Elk Creek Marina, LLC | Curecanti National Recreation Area.
LIBI003-06 | Crow Tribe of Indians | Little Bighorn Battlefield National Monument.
ROMO003-04 | Andrews, Bicknell, and Crothers, LLC | Rocky Mountain National Park.
YELL102-04 | Adventures Outfitting | Yellowstone National Park.
YELL103-04 | Triangle X Ranch | Yellowstone National Park.
YELL105-04 | Bear Paw Outfitters | Yellowstone National Park.
YELL106-04 | Jackson Hole Llamas | Yellowstone National Park.
YELL107-04 | Wyoming Backcountry Adventures, Inc | Yellowstone National Park.
YELL108-04 | Sunrise Pack Station, LLC | Yellowstone National Park.
YELL110-04 | Mountain Sky Guest Ranch, LLC | Yellowstone National Park.
YELL113-04 | 7D Ranch, LLC | Yellowstone National Park.
YELL115-04 | Gary Fales Outfitting, Inc. | Yellowstone National Park.
YELL117-04 | Scott Sallee | Yellowstone National Park.
YELL118-04 | Yellowstone Mountain Guides, Inc. | Yellowstone National Park.
YELL120-04 | Slough Creek Outfitters, Inc. | Yellowstone National Park.
YELL121-04 | Yellowstone Llamas | Yellowstone National Park.
YELL122-04 | Sheep Mesa Outfitters | Yellowstone National Park.
YELL123-04 | Castle Creek Outfitters and Guide Service | Yellowstone National Park.
YELL124-04 | Jake's Horses, Inc. | Yellowstone National Park.
YELL125-04 | Big Bear Outfitters | Yellowstone National Park.
YELL126-04 | Yellowstone Wilderness Outfitters | Yellowstone National Park.
YELL127-04 | Medicine Lake Outfitters | Yellowstone National Park.
YELL130-04 | Skyline Guest Ranch & Guide Service, Inc | Yellowstone National Park.
YELL131-04 | Hell's A-Roarin' Outfitters, Inc. | Yellowstone National Park.
YELL132-04 | Nine Quarter Circle Ranch, Inc. | Yellowstone National Park.
YELL137-04 | Wilderness Pack Trips, Inc. | Yellowstone National Park.
YELL138-04 | Yellowstone Roughriders, LLC | Yellowstone National Park.
YELL139-04 | Hoof Beat Recreational Services | Yellowstone National Park.
YELL140-04 | Black Otter, Inc. | Yellowstone National Park.
YELL141-04 | Lost Fork Ranch | Yellowstone National Park.
YELL144-04 | Lone Mountain Ranch, Inc. | Yellowstone National Park.
YELL146-04 | K Bar Z Guest Ranch and Outfitters, LLC | Yellowstone National Park.
YELL148-04 | Kevin V. & Deborah A. Little | Yellowstone National Park.
YELL156-04 | Two Ocean Pass Outfitting | Yellowstone National Park.
YELL157-04 | Beartooth Plateau Outfitters, Inc. | Yellowstone National Park.
YELL158-04 | Wilderness Trails, Inc. | Yellowstone National Park.
YELL159-04 | Colby Gines' Wilderness Adventures, LLC | Yellowstone National Park.
YELL162-04 | Grizzly Ranch | Yellowstone National Park.
YELL164-04 | TNT Ranch, LLC | Yellowstone National Park.
YELL165-04 | Gunsel Horse Adventures | Yellowstone National Park.
YELL166-04 | ER Ranch Corporation | Yellowstone National Park.
YELL168-04 | Llama Trips in Yellowstone | Yellowstone National Park.
YELL170-04 | Rockin' HK Outfitters, Inc. | Yellowstone National Park.
CABR001-06 | Cabrillo National Monument Foundation | Cabrillo National Monument.
CHIS002-06 | Channel Islands Aviation | Channel Islands National Park.
CRMO001-06 | Craters of the Moon Natural History Association | Craters of the Moon National Monument and Preserve.
DEVA004-06 | Death Valley Natural History Association | Death Valley National Park.
GOGA007-06 | Golden Gate National Parks Conservancy | Golden Gate National Recreation Area.
GRBA001-11 | Half Year, Inc. | Great Basin National Park.
HAVO002-06 | Hawai'i Natural History Association, Ltd | Hawai'i Volcanoes National Park.
JOTR001-06 | Joshua Tree National Park Association | Joshua Tree National Park.
LABE001-06 | Lava Beds Natural History Association | Lava Beds National Monument.
ORCA002-06 | Oregon Caves Natural History Association | Oregon Caves National Monument and Preserve.
PORE004-06 | Point Reyes National Seashore Association | Point Reyes National Seashore.
PWRO001-06 | Western National Parks Association | Pacific West Region, National Park Service.
VALR002-06 | Arizona Memorial Museum Association | World War II Valor in the Pacific National Monument.
DENA030-05 | Kantishna Air Taxi, Inc. | Denali National Park and Preserve.
GLBA008-05 | Alaska Discovery, Inc. | Glacier National Park.
GLBA011-05 | Chilkat Guides, Ltd. | Glacier National Park.
GLBA012-05 | Colorado River & Trail Expeditions, Inc | Glacier National Park.
GLBA013-05 | James Henry River Journeys | Glacier National Park.
GLBA014-05 | Mountain Travel | Glacier National Park.
GLBA017-05 | Wilderness River Outfitters | Glacier National Park.
GLBA020-05 | Vernon W. Schumacher | Glacier National Park.
GLBA029-05 | Janice Lowenstein | Glacier National Park.
GLBA033-05 | Gary Gray | Glacier National Park.
KATM002-05 | No See Um Lodge, Inc. | Katmai National Park and Preserve.
KATM003-05 | Alaska's Enchanted Lake Lodge, Inc | Katmai National Park and Preserve.
KATM004-05 | Shaska Ventures, Inc. | Katmai National Park and Preserve.
KATM005-05 | Hartley, Inc. | Katmai National Park and Preserve.
KATM006-05 | Chris Branham | Katmai National Park and Preserve.
KATM007-05 | Katmai Air, LLC | Katmai National Park and Preserve.

Under the provisions of current concession contracts and pending the completion of the public solicitation of a prospectus for a new concession contract, the National Park Service authorizes the extension of visitor services for the contracts below until the dates shown under the terms and conditions of the current contract as amended. The extension of operations does not affect any rights with respect to selection for award of a new concession contract.

CONCID | Concessioner | Park unit | Extension date
BAND001-06 | Pajarito Plateau Trading Co., LLC | Bandelier National Monument | December 31, 2016
DENA018-05 | Jon M. Nierenberg | Denali National Park & Preserve | December 31, 2016
GOGA001-06 | Alcatraz Cruises, LLC | Golden Gate National Recreation Area | December 31, 2018
ORCA001-03 | Illinois Valley Community Response Team | Oregon Caves National Monument & Preserve | October 31, 2016
YOSE003-08 | Kirstie Dunbar-Kari | Yosemite National Park | December 31, 2016

Dated: November 10, 2015.
Lena McDowall,
Chief Financial Officer.

[FR Doc. 2015-31331 Filed 12-14-15; 8:45 am]

BILLING CODE 4312-53-P